UNITED STATES INSTITUTE OF PEACE

Notice; Sunshine Act Meeting

Date/Time: Monday, March 12, 2007, 9 a.m.-3:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: March 12, 2007 Board Meeting; Approval of Minutes of the One Hundred Twenty-Fifth Meeting (November 28, 2006) of the Board of Directors; Chairman's Report; President's Report; Budget Update; Consideration of Fellowship Applications; Other General Issues.

Contact: Tessie F. Higgs, Executive Office, Telephone: (202) 429-3836.

Dated: February 26, 2007.
Patricia P. Thomson,
Executive Vice President, United States Institute of Peace.

[FR Doc. 07-938 Filed 2-26-07; 3:16 pm]

BILLING CODE 6820-AR-M